DEPARTMENT OF JUSTICE

Notice of Lodging of Consent Decree Pursuant to the Clean Air Act

In accordance with section 113(g) of the Clean Air Act (“CAA”), 42 U.S.C. 7413(g), and with Departmental policy, 28 CFR 50.7, notice is hereby given that a proposed Consent Decree in United States v. Dominance Industries, Inc., d/b/a Pan Pacific Products Company, Civil Action No. CIV-04-158, was lodged on April 6, 2004, with the United States District Court for the Eastern District of Oklahoma.

In this action the United States sought civil penalties and injunctive relief for Defendant's violations of the Oklahoma State Implementation Plan (“SIP”) approved pursuant to section 110 of the CAA, 42 U.S.C. 7410, and the Prevention of Significant Deterioration (“PSD”) provisions of the CAA, Part C of Title I, 42 U.S.C. 7470-7492, and the regulations promulgated thereunder at 40 CFR 52.21 (“the PSD Rules”).

The Consent Decree settles an action brought under section 113 of the Clean Air Act, 42 U.S.C. 7413. The Consent Decree provides that Dominance Industries, Inc., d/b/a Pan Pacific Products Company, will pay the United States $200,000.00 in civil penalties, and perform injunctive relief by installing a control technology system for control of volatile organic compounds (“VOC”) emissions on the Fiber Dryer Exhaust Numbers one and two at its Broken Bow, Oklahoma facility.

The Department of Justice will receive, for a period of thirty (30) days from the date of this publication, comments relating to the proposed Consent Decree. Comments should be addressed to the Assistant Attorney General for the Environment and Natural Resources Division, Department of Justice, Washington, DC 20530, and should refer to United States v. Dominance Industries, Inc., d/b/a Pan Pacific Products Company, D.J. Ref. #90-5-2-1-07366.

The proposed Consent Decree may be examined at the office of the United States Attorney for the Eastern District of Oklahoma, 1200 West Okmulgee Street, Muskogee, Oklahoma 74401; the Region 6 Office of the Environmental Protection Agency, 1445 Ross Avenue, Dallas, Texas 75202; and the Headquarters Office of the Environmental Protection Agency, 1200 Pennsylvania Avenue, NW., Washington, DC 20460. During the public comment period, the Consent Decree may also be examined on the following Department of Justice Web site, http://www.usdoj.gov/enrd/open.html. A copy of the Consent Decree may also be obtained by mail from the Consent Decree Library, P.O. Box 7611, U.S. Department of Justice, Washington, DC 20044-7611, or by faxing or e-mailing a request to Tonia Fleetwood (tonia.fleetwood@usdoj.gov), fax no. (202) 514-0097, phone confirmation number (202) 514-1547. In requesting a copy from the Consent Decree Library, please enclose a check in the amount of $7.50 (25 cents per page reproduction costs), payable to the U.S. Treasury.

Benjamin Fisherow,
Deputy Section Chief, Environmental Enforcement Section, Environment and Natural Resources Division.

[FR Doc. 04-8470 Filed 4-13-04; 8:45 am]

BILLING CODE 4410-15-M